DEPARTMENT OF ENERGY

Federal Energy Regulatory Commission

Notice of Institution of Section 206 Proceeding and Refund Effective Date

| Docket No.
Alcoa Power Generating Inc.—Long Sault Division | EL18-72-000
Alcoa Power Generating Inc.—Tapoco Division | EL18-73-000
Avista Corporation | EL18-75-000
Black Hills/Colorado Electric Utility Company, L.P | EL18-76-000
Central Hudson Gas & Electric Corporation | EL18-77-000
Cheyenne Light, Fuel and Power Company | EL18-79-000
Consolidated Edison Company of New York, Inc | EL18-89-000
Cube Yadkin Transmission LLC | EL18-90-000
DATC Path 15, LLC | EL18-91-000
Deseret Generation and Transmission Co-operative, Inc | EL18-93-000
El Paso Electric Company | EL18-95-000
Electric Energy, Inc | EL18-96-000
Essential Power Rock Springs, LLC | EL18-97-000
Florida Power & Light Company | EL18-98-000
Monongahela Power Company | EL18-101-000
Potomac Edison Company
West Penn Power Company
Nevada Power Company | EL18-102-000
Sierra Pacific Power Company
New York State Electric & Gas Corporation | EL18-103-000
NorthWestern Corporation | EL18-104-000
Ohio Valley Electric Corporation | EL18-105-000
Orange & Rockland Utilities, Inc | EL18-107-000
Pacific Gas and Electric Company | EL18-108-000
Portland General Electric Company | EL18-109-000
Rochester Gas and Electric Corporation | EL18-110-000
Rockland Electric Company | EL18-111-000
Sky River LLC | EL18-112-000
Smoky Mountain Transmission LLC | EL18-113-000
Startrans, IO, LLC | EL18-115-000
The Dayton Power & Light Company | EL18-117-000
Trans Bay Cable LLC | EL18-118-000
Tucson Electric Power Company | EL18-119-000

On March 15, 2018, the Commission issued an order in Docket Nos. EL18-72-000, EL18-73-000, EL18-75-000, EL18-76-000, EL18-77-000, EL18-79-000, EL18-89-000, EL18-90-000, EL18-91-000, EL18-93-000, EL18-95-000, EL18-96-000, EL18-97-000, EL18-98-000, EL18-101-000, EL18-102-000, EL18-103-000, EL18-104-000, EL18-105-000, EL18-107-000, EL18-108-000, EL18-109-000, EL18-110-000, EL18-111-000, EL18-112-000, EL18-113-000, EL18-115-000, EL18-117-000, EL18-118-000, and EL18-119-000, pursuant to section 206 of the Federal Power Act (FPA), 16 U.S.C. 824e (2012), instituting an investigation into the justness and reasonableness of each of the above-captioned public utilities' stated transmission rates under its open access transmission tariff or transmission owner tariff on file with the Commission. Alcoa Power Generating Inc.—Long Sault Division, et al., 162 FERC 61,224 (2018).

The refund effective date in Docket Nos. EL18-72-000, EL18-73-000, EL18-75-000, EL18-76-000, EL18-77-000, EL18-79-000, EL18-89-000, EL18-90-000, EL18-91-000, EL18-93-000, EL18-95-000, EL18-96-000, EL18-97-000, EL18-98-000, EL18-101-000, EL18-102-000, EL18-103-000, EL18-104-000, EL18-105-000, EL18-107-000, EL18-108-000, EL18-109-000, EL18-110-000, EL18-111-000, EL18-112-000, EL18-113-000, EL18-115-000, EL18-117-000, EL18-118-000, and EL18-119-000, established pursuant to section 206(b) of the FPA, will be the date of publication of this notice in the Federal Register.

Any interested person desiring to be heard in Docket Nos. EL18-72-000, EL18-73-000, EL18-75-000, EL18-76-000, EL18-77-000, EL18-79-000, EL18-89-000, EL18-90-000, EL18-91-000, EL18-93-000, EL18-95-000, EL18-96-000, EL18-97-000, EL18-98-000, EL18-101-000, EL18-102-000, EL18-103-000, EL18-104-000, EL18-105-000, EL18-107-000, EL18-108-000, EL18-109-000, EL18-110-000, EL18-111-000, EL18-112-000, EL18-113-000, EL18-115-000, EL18-117-000, EL18-118-000, and EL18-119-000 must file a notice of intervention or motion to intervene, as appropriate, with the Federal Energy Regulatory Commission, 888 First Street NE, Washington, DC 20426, in accordance with Rule 214 of the Commission's Rules of Practice and Procedure, 18 CFR 385.214, within 21 days of the date of issuance of the order.

Dated: March 15, 2018.
Nathaniel J. Davis, Sr.,
Deputy Secretary.

[FR Doc. 2018-05675 Filed 3-20-18; 8:45 am]

BILLING CODE 6717-01-P